DEPARTMENT OF ENERGY

Federal Energy Regulatory Commission

[Project No. 11162-002]

Wisconsin Power and Light Company; Notice of Modifying a Restricted Service List for Comments on a Programmatic Agreement for Managing Properties Included in or Eligible for Inclusion in the National Register of Historic Places

December 13, 2001.

On September 24, 2001, the Federal Energy Regulatory Commission (Commission) issued a notice for the Prairie du Sac Project (FERC No. 11162-002) proposing to establish a restricted service list for the purpose of developing and executing a Programmatic Agreement (PA) for managing properties included in or eligible for inclusion in the National Register of Historic Places. The Prairie du Sac Project is located in Sauk and Columbia Counties in central Wisconsin. Wisconsin Power and Light Company is the prospective licensee.

Rule 2010 of the Commission's Rules of Practice and Procedure provides that, to eliminate unnecessary expense or improve administrative efficiency, the Secretary may establish a restricted service list for a particular phase or issue in a proceeding.¹ The restricted service list should contain the names of persons on the service list who, in the judgment of the decisional authority establishing the list, are active participants with respect to the phase or issue in the proceeding for which the list is established. The following changes to the existing restricted service list are noted.

¹ 18 CFR 385.2010.

Add “Larry Garvin, Executive Director of Heritage Preservation, Ho-Chunk Nation of Wisconsin, P.O. Box 667, Black River Falls, WI 54615”.

Linwood A. Watson, Jr.,
Acting Secretary.

[FR Doc. 01-31236 Filed 12-18-01; 8:45 am]

BILLING CODE 6717-01-P